DEPARTMENT OF TRANSPORTATION

Federal Highway Administration

Notice of Intent to Prepare a Tier I Environmental Impact Statement: Dane County, Wisconsin

AGENCY: Federal Highway Administration (FHWA), Wisconsin Department of Transportation (WisDOT).

ACTION: Federal Notice of Intent to Prepare a Tier 1 Environmental Impact Statement (Tier 1 EIS).

SUMMARY: The FHWA is issuing this revised notice to advise the public that FHWA and WisDOT will be preparing a Tier 1 EIS for proposed transportation improvements in the United States Highway (US) 51 corridor in Dane County, Wisconsin generally between Interstate 39/90 east of the City of Stoughton and US 12/18 (Madison South Beltline Highway). The previous Notice of Intent was to prepare an Environmental Impact Statement and was published in the Federal Register on February 1, 2012.

FOR FURTHER INFORMATION CONTACT: Mr. Johnny Gerbitz, Field Operations Engineer, Federal Highway Administration, City Center West, 525 Junction Road, Suite 8000, Madison, Wisconsin, 53717-2157, Telephone: (608) 829-7500.

SUPPLEMENTARY INFORMATION: A needs assessment was conducted for the project corridor in 2004 followed by initiation of the environmental review process for an environmental impact statement (EIS). The EIS review process examined factors contributing to the need for improvements within the US 51 study corridor (long-term planning and corridor preservation, safety, roadway deficiencies, bike and pedestrian accommodations, and travel demand and capacity). Because of fiscal constraints, a commitment to improvements that address all of the need factors could not be made and the environmental review process is being converted from a standard EIS to a Tier 1 EIS.

The FHWA, in cooperation with the Wisconsin Department of Transportation (WisDOT), will prepare a Tier 1 EIS for proposed improvements to address safety, operational and capacity concerns on approximately 18 miles of US 51 between Interstate 39/90, east of the City of Stoughton, to US 12/18 (Madison South Beltline Highway), north of the Village of McFarland. The study will also examine a bypass of Stoughton, as well as potential operational improvements on existing US 51 in Stoughton. As alternatives to capacity improvements on US 51, the study will consider improvements on highways other than US 51 that might address the needs of travelers between the southeast portion of Dane County and the Madison Urban area. The Tier 1 EIS will evaluate the social, economic, and environmental impacts of the alternatives within the existing US 51 highway corridor, and other full build improvements on other regional highway corridors. The objective of this project is to address existing and future transportation demand and safety concerns as identified in the US 51 Needs Assessment Report. The Tier 1 EIS will be prepared in accordance with 23 U.S.C. 139, 23 CFR 771, and 40 CFR 1500-1508. Completion of the Tier 1 EIS and the Record of Decision (ROD) is expected in 2018.

Public involvement is a critical component of the National Environmental Policy Act (NEPA) and will occur throughout the development of the draft and final Tier 1 EIS. All environmental documents will be made available for review by federal and state resource agencies and the public. Specific efforts to encourage involvement by, and solicit comments from, minority and low-income populations in the project study area will be made, with public involvement meetings held throughout the environmental document process. Public notice will be given as to the time and place of public involvement meetings. A public hearing will be held after the completion of the Draft Tier 1 EIS.

Inquiries related to this study can be sent to jeff.berens@dot.wi.gov. A public Web site will be maintained throughout the study to provided information about the project and allow for on-line public comment (http://www.dot.wisconsin.gov/projects/swregion/5139901218/index.htm). To ensure the full range of issues related to the proposed action are addressed and all significant issues identified, comments and suggestions are invited from all interested parties. Comments and questions concerning the proposed action and this notice should be directed to the FHWA address provided above.

Projects receiving Federal funds must comply with Title VI of the Civil Rights Act, and Executive Order 12898 “Federal Actions to Address Environmental Justice in Minority Populations and Low-Income Populations.” Federal law prohibits discrimination on the basis of race, color, age, sex, or country of national origin in the implementation of this project. It is also Federal policy to identify and address any disproportionately high and adverse effects of federal projects on the health or environment of minority and low-income populations to the greatest extent practicable and permitted by law.

(Catalog of Federal Domestic Assistance Program Number 20.205, Highway Planning and Construction. The regulations implementing Executive Order 12372 regarding intergovernmental consultation on Federal programs and activities apply to this program.)

Issued on: April 2, 2015.
Johnny M. Gerbitz,
Field Operations Engineer, Federal Highway Administration, Madison, Wisconsin.

[FR Doc. 2015-08138 Filed 4-8-15; 8:45 am]

BILLING CODE 4910-22-P